DEPARTMENT OF TRANSPORTATION

Surface Transportation Board

[STB Finance Docket No. 34070]

Eyal Shapira—Continuance in Control Exemption—Raritan Central Railway, L.L.C.

Eyal Shapira (Shapira), an individual, has filed a notice of exemption to continue in control of Raritan Central Railway, L.L.C. (Raritan), upon Raritan's becoming a Class III railroad.

The transaction is scheduled to be consummated on or shortly after August 15, 2001.

This transaction is related to STB Finance Docket No. 34071, Raritan Central Railway, L.L.C.—Lease and Operation Exemption—Federal Business Centers, Inc. and Summit Associates, Inc., wherein Raritan seeks to lease and operate approximately 14 miles of rail line properties, easements and right-of-ways from Federal Centers, Inc. and Summit Associates, Inc., in the Townships of Edison and Woodbridge, in Middlesex County, NJ.

At the time it filed this notice, Shapira owned and controlled one existing Class III rail carrier: The New York & Ogdensburg Railway Company, Inc., operating in the State of New York.

Shapira states that: (i) The railroads will not connect with each other or any other railroad in their corporate family; (ii) the continuance-in-control is not part of a series of anticipated transactions that would connect the railroads with each other or any railroad in their corporate family; and (iii) the transaction does not involve a Class I carrier. Therefore, the transaction is exempt from the prior approval requirements of 49 U.S.C. 11323. See 49 CFR 1180.2(d)(2).

Under 49 U.S.C. 10502(g), the Board may not use its exemption authority to relieve a rail carrier of its statutory obligation to protect the interests of its employees. Section 11326(c), however, does not provide for labor protection for transactions under sections 11324 and 11325 that involve only Class III rail carriers. Because this transaction involves Class III rail carriers only, the Board, under the statute, may not impose labor protective conditions for this transaction.

If the verified notice contains false or misleading information, the exemption is void ab initio. Petitions to revoke the exemption under 49 U.S.C. 10502(d) may be filed at any time. The filing of a petition to revoke will not automatically stay the transaction.

An original and 10 copies of all pleadings, referring to STB Finance Docket No. 34070, must be filed with the Surface Transportation Board, Office of the Secretary, Case Control Unit, 1925 K Street, NW., Washington, DC 20423-0001. In addition, a copy of each pleading must be served on John D. Heffner, REA, CROSS & AUCHINCLOSS, 1707 L Street, NW., Suite 570, Washington, DC 20036.

Board decisions and notices are available on our website at www.stb.dot.gov.

Decided: July 17, 2001.
By the Board, David M. Konschnik, Director, Office of Proceedings.
Vernon A. Williams,
Secretary.

[FR Doc. 01-18336 Filed 7-23-01; 8:45 am]

BILLING CODE 4915-00-P